DEPARTMENT OF COMMERCE

International Trade Administration

[A-428-820]

Rescission of Antidumping Duty Administrative Review: Small Diameter Seamless Carbon and Alloy Steel Standard, Line and Pressure Pipe from Germany

AGENCY: Import Administration, International Trade Administration, Department of Commerce.

SUMMARY: In response to a request by United States Steel Corporation (“US Steel”), petitioner in this review, the U.S. Department of Commerce (“the Department”) initiated an administrative review of the antidumping duty order on small diameter seamless carbon and alloy steel standard, line and pressure pipe (“seamless line and pressure pipe”) from Germany with respect to Vallourec & Mannesmann Tubes - V&M Deutschland GmbH (“VMD”), Mannesmann Pipe & Steel Corporation (“Mannesmann”), Benteler Stahl/Rohr GmbH (“Benteler Stahl”), and Benteler Steel and Tube Corporation (“Benteler Tube”) (collectively, “respondents”). No other interested party requested a review. The period of review (“POR”) is August 1, 2004, through July 31, 2005. On December 13, 2005, US Steel withdrew its request for an administrative review of the four respondents. Accordingly, the Department is now rescinding the administrative review of these companies.

EFFECTIVE DATE: December 28, 2005.

FOR FURTHER INFORMATION CONTACT: Angelica Mendoza or Patrick Edwards, AD/CVD Operations, Office 7, Import Administration, U.S. Department of Commerce, 14th Street and Constitution Avenue, NW, Washington, DC 20230; telephone: (202) 482-3019 and (202) 482-8029, respectively.

SUPPLEMENTARY INFORMATION:

Background

On August 3, 1995, the Department published an antidumping duty order on seamless line and pressure pipe from Germany. See Notice of Antidumping Duty Order and Amended Final Determination of Sales at Less than Fair Value: Small Diameter Seamless Carbon and Alloy Steel Standard, Line and Pressure Pipe from Germany, 60 FR 39704 (August 3, 1995).

On August 1, 2005, the Department published in the Federal Register a notice of opportunity to request an administrative review of the antidumping duty order covering seamless line and pressure pipe from Germany. See Antidumping or Countervailing Duty Order, Finding, or Suspended Investigation: Opportunity to Request Administrative Review, 70 FR 44085 (August 1, 2005). On August 31, 2005, the Department received a timely filed request for an administrative review of the antidumping duty order on seamless line and pressure pipe from Germany with respect to VMD, Mannesmann, Benteler Stahl, and Benteler Tube from US Steel, a domestic producer of the subject merchandise. On September 28, 2005, in accordance with section 751(a) of the Tariff Act of 1930, as amended (“the Act”), the Department published a notice of initiation of the administrative review of VMD, Mannesmann, Benteler Stahl and Benteler Tube, covering the period August 1, 2004, through July 31, 2005. Initiation of Antidumping and Countervailing Duty Administrative Reviews and Requests for Revocation in Part, 70 FR 56631 (September 28, 2005).

On October 6, 2005, the Department released the antidumping duty questionnaire to VMD, Mannesmann, Benteler Stahl, and Benteler Tube. On December 13, 2005, the petitioner withdrew its request in a timely manner for an administrative review of the four named respondents. No other party requested a review.

Scope of the Order

The products covered by the order are seamless pipes produced to the ASTM A-335, ASTM A-106, ASTM A-53 and API 5L specifications and meeting the physical parameters described below, regardless of application. The scope of this order also includes all products used in standard, line, or pressure pipe applications and meeting the physical parameters below, regardless of specification. For purposes of this order, seamless pipes are seamless carbon and alloy (other than stainless) steel pipes, of circular cross-section, not more than 114.3 mm (4.5 inches) in outside diameter, regardless of wall thickness, manufacturing process (hot-finished or cold-drawn), end finish (plain end, beveled end, upset end, threaded, or threaded and coupled), or surface finish. These pipes are commonly known as standard pipe, line pipe or pressure pipe, depending upon the application. They may also be used in structural applications. Pipes produced in non-standard wall thickness are commonly referred to as tubes.

The seamless pipes subject to this antidumping duty order are currently classifiable under subheadings 7304.10.10.20, 7304.10.50.20, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25 of the Harmonized Tariff Schedule of the United States (“HTSUS”). The following information further defines the scope of this order, which covers pipes meeting the physical parameters described above.

Specifications, Characteristics and Uses: Seamless pressure pipes are intended for the conveyance of water, steam, petrochemicals, chemicals, oil products, natural gas, and other liquids and gasses in industrial piping systems. They may carry these substances at elevated pressures and temperatures and may be subject to the application of external heat. Seamless carbon steel pressure pipe meeting the ASTM standard A-106 may be used in temperatures of up to 1000 degrees Fahrenheit, at various American Society of Mechanical Engineers (“ASME”) code stress levels. Alloy pipes made to ASTM standard A-335 must be used if temperatures and stress levels exceed those allowed for A-106 and the ASME codes. Seamless pressure pipes sold in the United States are commonly produced to the ASTM A-106 standard. Seamless standard pipes are most commonly produced to the ASTM A-53 specification and generally are not intended for high temperature service. They are intended for the low temperature and pressure conveyance of water, steam, natural gas, air and other liquids and gasses in plumbing and heating systems, air conditioning units, automatic sprinkler systems, and other related uses. Standard pipes (depending on type and code) may carry liquids at elevated temperatures but must not exceed relevant ASME code requirements.

Seamless line pipes are intended for the conveyance of oil and natural gas or other fluids in pipelines. Seamless line pipes are produced to the API 5L specification. Seamless pipes are commonly produced and certified to meet ASTM A-106, ASTM A-53 and API 5L specifications. Such triple certification of pipes is common because all pipes meeting the stringent ASTM A-106 specification necessarily meet the API 5L and ASTM A-53 specifications. Pipes meeting the API 5L specification necessarily meet the ASTM A-53 specification. However, pipes meeting the A-53 or API 5L specifications do not necessarily meet the A-106 specification. To avoid maintaining separate production runs and separate inventories, manufacturers triple-certify the pipes. Since distributors sell the vast majority of this product, they can thereby maintain a single inventory to service all customers.

The primary application of ASTM A-106 pressure pipes and triple-certified pipes is in pressure piping systems by refineries, petrochemical plants and chemical plants. Other applications are in power generation plants (electrical-fossil fuel or nuclear), and in some oil field uses (on shore and off shore) such as for separator lines, gathering lines and metering runs. A minor application of this product is for use as oil and gas distribution lines for commercial applications. These applications constitute the majority of the market for the subject seamless pipes. However, A-106 pipes may be used in some boiler applications.

The scope of this order includes all seamless pipe meeting the physical parameters described above and produced to one of the specifications listed above, regardless of application, and whether or not also certified to a non-covered specification. Standard, line and pressure applications and the above-listed specifications are defining characteristics of the scope of this order. Therefore, seamless pipes meeting the physical description above, but not produced to the ASTM A-335, ASTM A-106, ASTM A-53, or API 5L standards shall be covered if used in a standard, line or pressure application. For example, there are certain other ASTM specifications of pipe which, because of overlapping characteristics, could potentially be used in A-106 applications. These specifications generally include A-162, A-192, A-210, A-333, and A-524. When such pipes are used in a standard, line or pressure pipe application, such products are covered by the scope of this order.

The HTSUS item numbers are provided for convenience and Customs purposes. The written description remains dispositive.

Rescission of the Administrative Review

Pursuant to the Department's regulations, the Department will rescind an administrative review “if a party that requested a review withdraws the request within 90 days of the date of publication of the notice of initiation of the requested review.” See 19 CFR 351.213(d)(1). Since the petitioner withdrew its request for an administrative review on December 13, 2005, which is within the 90-day deadline, and no other party requested a review with respect to these companies, the Department is rescinding this administrative review in accordance with 19 CFR 351.213(d)(1).

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction. The Department is issuing and publishing this notice in accordance with section 777(i) of the Act and 19 CFR 351.213(d)(4).

Dated: December 21, 2005.
Stephen J. Claeys,
Deputy Assistant Secretary for Import Administration.

[FR Doc. E5-7980 Filed 12-27-05; 8:45 am]

BILLING CODE 3510-DS-S